DEPARTMENT OF LABOR

Employment Standards Administration

Assignment of President's Reporting Function Contained Within Section 401(c) of the National Emergencies Act (50 U.S.C. 1641(c))

February 10, 2006.

AGENCY: Employment Standards Administration; Department of Labor.

SUMMARY: The President has assigned to the Secretary of Labor the function of the President contained within section 401(c) of the National Emergencies Act (50 U.S.C. 1641(c)), to provide the specified final report to the Congress in relation to Proclamation 7959 of November 3, 2005. Proclamation 7959 revoked Proclamation 7924 that was issued September 8, 2005, and which suspended the provisions of the Davis-Bacon Act (40 U.S.C. 3141-3148) relating to prevailing-wage determinations by the Secretary of Labor within specified geographic areas affected by Hurricane Katrina.

DATES: Effective Date: February 16, 2006.

FOR FURTHER INFORMATION CONTACT: William W. Gross, Director, Office of Wage Determinations, Wage and Hour Division, Employment Standards Administration, U.S. Department of Labor, Room S-3028, 200 Constitution Avenue, NW., Washington, DC 20210, telephone (202) 693-0569. This is not a toll-free number.

SUPPLEMENTARY INFORMATION: On September 8, 2005, pursuant to authority given to him in 40 U.S.C. 3147 to “suspend the provisions of this subchapter during a national emergency,” President George W. Bush issued Proclamation 7924 (70 FR 54227, September 13, 2005) suspending Subchapter IV of Chapter 31 of Title 40, United States Code, within a limited geographical area, as specified in the Proclamation, in response to the national emergency caused by Hurricane Katrina. The Proclamation suspended as to all contracts, as described in 40 U.S.C. 3142(a), entered on or after the date of the Proclamation the provisions of that Subchapter, commonly known as the Davis-Bacon Act, in the specified jurisdictions, and the provisions of “any Executive Order, proclamation, rule, regulation, or other directive providing for the payment of wages, which provisions are dependent upon determinations by the Secretary of Labor under section 3142 of title 40, United States Code,” until otherwise provided. On November 3, 2005, pursuant to authority vested in him by the Constitution and the laws of the United States, including 50 U.S.C. 1622 (the National Emergencies Act), the President issued Proclamation 7959 (70 FR 67899, November 8, 2005) revoking Proclamation 7924 “as to all contracts for which bids are opened or negotiations concluded on or after November 8, 2005.”

On February 3, 2006, by a Memorandum for the Secretary of Labor, the President stated as follows:

By the authority vested in me as President by the Constitution and laws of the United States, including section 301 of title 3, United States Code, I hereby assign to you the function of the President contained within section 401(c) of the National Emergencies Act (50 U.S.C. 1641(c)), to provide the specified final report to the Congress in relation to Proclamation 7959 of November 3, 2005.

This function may be further delegated to the Deputy Secretary of Labor. The Memorandum further authorized and directed the Secretary to publish the final report in the Federal Register. Therefore, notice of this assignment of the National Emergencies reporting function in relation to Proclamation 7959 is hereby being published in the Federal Register.

Signed at Washington, DC this 9th day of February, 2006.
Victoria A. Lipnic,
Assistant Secretary for Employment Standards.
Signed at Washington, DC, this 9th day of February, 2006.
Alfred B. Robinson, Jr.,
Acting Wage and Hour Administrator.

Final Report on the National Emergency With Respect to the Suspension of Davis-Bacon Act Requirements in a Limited Geographical Area in Response to Hurricane Katrina

I hereby report to the Congress on final developments concerning the suspension of Davis-Bacon Act requirements in response to the national emergency caused by Hurricane Katrina, that was declared in Proclamation 7924 of September 8, 2005. This report is submitted pursuant to section 401(c) of the National Emergencies Act, 50 U.S.C. 1641(c) (“NEA”).

1. On November 3, 2005, the President issued Proclamation 7959 revoking Proclamation 7924 as of November 8, 2005. Copies of the Proclamations are attached.

2. Proclamation 7924 was issued in response to the devastation caused by Hurricane Katrina and invoked the power given to the President in 40 U.S.C. 3147 “to suspend the provisions of subchapter IV of chapter 31 of title 40, United States Code, 40 U.S.C. 3141-3148 during a national emergency.” Subchapter IV of chapter 31 of title 40 (“subchapter IV”) provides that federal contracts in excess of $2000 for “construction, alteration, or repair, including painting and decorating, of public buildings and public works” must contain “a provision stating the minimum wages to be paid various classes of laborers and mechanics,” id. § 3142(a), and also provides that the minimum wages must be based on the prevailing wages “in the civil subdivision of the State in which the work is to be performed,” as determined by the Secretary of Labor, id. § 3142(b). The Proclamation suspended, as to all contracts entered on or after September 8, 2005, subchapter IV and provisions in other acts dependent upon wage determinations by the Secretary of Labor under that subchapter, that were to be performed in specified jurisdictions in Alabama, Florida, Louisiana, and Mississippi.

3. As a result of the Proclamation, during the period September 8, 2005 through November 8, 2005, when the revocation of Proclamation went into effect (see Proclamation 7959), the Federal Government, through the Secretary of Labor, incurred modest expenses issuing internal and public guidance documents explaining the effect of suspending subchapter IV. Expenses were also incurred in preparing the revocation of the Proclamation. The expenses incurred by the Federal Government that are directly attributable to the exercise of powers and authorities conferred by the declaration of a national emergency with respect to Hurricane Katrina, as they relate to the two-month suspension of subchapter IV's wage-determination provisions in the specified jurisdictions, are reported to be about $30,000, which represent wage and salary costs for Federal personnel. Personnel costs were largely centered in the Department of Labor (particularly in the Office of the Wage-Hour Administrator and the Office of the Solicitor).

4. Because the proclamation and revocation occurred within this reporting period, I am submitting this report pursuant to section 401(c) of the NEA as the final report to the Congress on the total expenses incurred by the Federal Government that are directly attributable to the exercise of powers and authorities conferred by the declaration of a national emergency with respect to Hurricane Katrina, as they related to the suspension of subchapter IV's wage-determination provisions in the specified jurisdictions.

Dated: February 6, 2006.

Department of Labor.

Steven J. Law,

Deputy Secretary.

[FR Doc. 06-1466 Filed 2-15-06; 8:45 am]

BILLING CODE 4510-27-P